DEPARTMENT OF COMMERCE

National Oceanic and Atmospheric Administration

[RTID 0648-XD731]

Mid-Atlantic Fishery Management Council (MAFMC) and New England Fishery Management Council (NEFMC); Joint Public Meeting

AGENCY: National Marine Fisheries Service (NMFS), National Oceanic and Atmospheric Administration (NOAA), Commerce.

ACTION: Notice; public meeting.

SUMMARY: The MAFMC and NEFMC will jointly hold a public meeting (webinar) of the Spiny Dogfish and Monkfish Advisory Panels to review potential sturgeon bycatch reduction measures. See SUPPLEMENTARY INFORMATION for agenda details.

DATES: The meeting will be held on Tuesday, March 5, 2024, from 1 p.m. to 5 p.m.

ADDRESSES: Webinar connection information will be posted to the MAFMC's website calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Councils' Monkfish and Spiny Dogfish Advisory Panels will meet jointly to discuss: The range of sturgeon bycatch reduction alternatives; the draft impact analyses for the alternatives; recommendations for the Councils and their Spiny Dogfish and Monkfish Committees; and other business, as necessary.

Special Accommodations

The meeting is physically accessible to people with disabilities. Requests for sign language interpretation or other auxiliary aid should be directed to Shelley Spedden, (302) 526-5251, at least 5 days prior to the meeting date.

Authority: 16 U.S.C. 1801 et seq.

Dated: February 13, 2024.
Rey Israel Marquez,
Acting Deputy Director, Office of Sustainable Fisheries, National Marine Fisheries Service.

[FR Doc. 2024-03306 Filed 2-15-24; 8:45 am]

BILLING CODE 3510-22-P